DEPARTMENT OF THE INTERIOR

National Park Service

[NPS-WASO-NAGPRA-NPS0025312; PPWOCRADN0-PCU00RP14.R50000]

Notice of Inventory Completion: Sam Noble Oklahoma Museum of Natural History, Norman, OK

AGENCY: National Park Service, Interior.

ACTION: Notice.

SUMMARY: The Sam Noble Oklahoma Museum of Natural History (Museum) at the University of Oklahoma has completed an inventory of human remains, in consultation with the appropriate Indian Tribes or Native Hawaiian organization, and has determined that there is a cultural affiliation between the human remains and present-day Indian Tribes or Native Hawaiian organizations. Lineal descendants or representatives of any Indian Tribe or Native Hawaiian organization not identified in this notice that wish to request transfer of control of these human remains should submit a written request to the Museum. If no additional requesters come forward, transfer of control of the human remains to the lineal descendants, Indian Tribes, or Native Hawaiian organizations stated in this notice may proceed.

DATES: Representatives of any Indian Tribe or Native Hawaiian organization not identified in this notice that wish to request transfer of control of these human remains and associated funerary objects should submit a written request with information in support of the request to the Sam Noble Oklahoma Museum of Natural History at the address in this notice by May 21, 2018.

ADDRESSES: Dr. Marc Levine, Assistant Curator of Archaeology, Sam Noble Oklahoma Museum of Natural History, University of Oklahoma, 2401 Chautauqua Avenue, Norman, OK 73072-7029, telephone (405) 325-1994, email mlevine@ou.edu.

SUPPLEMENTARY INFORMATION: Notice is here given in accordance with the Native American Graves Protection and Repatriation Act (NAGPRA), 25 U.S.C. 3003, of the completion of an inventory of human remains and associated funerary objects under the control of the Sam Noble Oklahoma Museum of Natural History. The human remains and associated funerary objects were removed from Sequoyah, OK.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Sam Noble Oklahoma Museum of Natural History professional staff in consultation with representatives of the Cherokee Nation and United Keetoowah Band of Cherokee Indians in Oklahoma.

History and Description of the Remains

In 1979, human remains representing, at minimum, one individual were removed from the Blackbird House Site (34Sq0119) in Sequoyah County, OK. The site was recorded by the Oklahoma Archaeological Survey and the collection was transferred to the Museum in 1981. The human remains consist of a single right clavicle of an adult of indeterminate sex. No known individuals were identified. No associated funerary objects are present.

The Blackbird House Site is a historic Cherokee site located within lands reserved for the Cherokee. Historical documents, Cherokee oral history, and the presence of European goods support the determination that the area was occupied by the Cherokee during the nineteenth century.

Determinations Made by the Sam Noble Oklahoma Museum of Natural History

Officials of the Sam Noble Oklahoma Museum of Natural History have determined that:

• Pursuant to 25 U.S.C. 3001(9), the human remains described in this notice represent the physical remains of one individual of Native American ancestry.

• Pursuant to 25 U.S.C. 3001(2), there is a relationship of shared group identity that can be reasonably traced between the Native American human remains and the Cherokee Nation and the United Keetoowah Band of Cherokee Indians in Oklahoma.

Additional Requestors and Disposition

Representatives of any Indian Tribe or Native Hawaiian organization not identified in this notice that wish to request transfer of control of these human remains and associated funerary objects should submit a written request with information in support of the request to Dr. Marc Levine, Assistant Curator of Archaeology, Sam Noble Oklahoma Museum of Natural History, University of Oklahoma, 2401 Chautauqua Avenue, Norman, OK 73072-7029, telephone (405) 325-1994, email mlevine@ou.edu by May 21, 2018. After that date, if no additional requestors have come forward, transfer of control of the human remains to the Cherokee Nation and United Keetoowah Band of Cherokee Indians in Oklahoma may proceed.

The Sam Noble Oklahoma Museum of Natural History is responsible for notifying the United Keetoowah Band of Cherokee Indians in Oklahoma and the Cherokee Nation that this notice has been published.

Dated: March 26, 2018.
Melanie O'Brien, Manager,
National NAGPRA Program.

[FR Doc. 2018-08185 Filed 4-18-18; 8:45 am]

BILLING CODE 4312-52-P